DEPARTMENT OF HOMELAND SECURITY

Coast Guard

[Docket No. USCG-2010-0455]

Availability of Draft Environmental Impact Statement for the Proposed Construction of a Highway Bridge Across the Manatee River at Parrish, Manatee County, FL; Correction

AGENCY: Coast Guard, DHS.

ACTION: Notice of availability and request for comments; notice of public meeting; correction.

SUMMARY: The comment period end date listed for the Manatee River Draft Environmental Impact Statement published in the Federal Register on July 5, 2013, was incorrect. This notice inserts the correct ending date for the comment period.

DATES: Comments and related material must either be submitted to our online docket via http://www.regulations.gov on or before August 19, 2013, or reach the Docket Management Facility by that date.

A public meeting will be held on August 7, 2013, from 4 p.m. until 6:30 p.m. If you wish to request an oral or sign language interpreter, we must receive your request for one by July 28, 2013.

ADDRESSES: You may submit comments identified by docket number USCG-2010-0455 using any one of the following methods:

(1) Federal eRulemaking Portal: http://www.regulations.gov

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

We have provided a copy of the DEIS in our online docket at http://www.regulations.gov. Also, the following locations will maintain a printed copy of the DEIS for public review:

• Coast Guard Seventh District Bridge Office at 909 SE 1st Avenue, Brickell Plaza Federal Building, Ste 432, Miami, Florida, 33131. The document will be available at this location between 8 a.m. and 4 p.m., Monday through Friday, except Federal holidays.

• Manatee County Chamber of Commerce at 4215 Concept Court, Lakewood Ranch, Florida, 34211. Call 941-748-3411 for hours of operation.

• Manatee County Central Library at 1301 Barcarrota Blvd. West, Bradenton, Florida, 34205. Call 941-748-5555 for hours of operation.

• Manatee County Rocky Bluff Library at 6750 US 301 North, Ellenton, Florida, 34222. Call 941-723-4821 for hours of operation.

The public meeting on August 7, 2013, will be held at the Manatee County Civic Center (also known as the Bradenton Area Convention Center), 1 Haben Blvd., Palmetto, Florida, 34221.

FOR FURTHER INFORMATION CONTACT: If you have questions on this notice or the public meeting, call or email Randall Overton, Bridge Management Specialist, Seventh Coast Guard District, U.S. Coast Guard; telephone 305-415-6736, email Randall.D.Overton@uscg.mil. If you have questions on viewing or submitting material to the docket, call Barbara Hairston, Program Manager, Docket Operations, telephone 202-366-9826.

SUPPLEMENTARY INFORMATION:

Public Participation and Request for Comments

We encourage you to submit comments and related material on the DEIS and the proposed project's impact on river navigation. All comments received, including comments received at the public meeting, will be posted, without change, to http://www.regulations.gov and will include any personal information you have provided.

Submitting comments: If you submit a comment, please include the docket number for this notice (USCG-2010-0455) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, and follow the instructions on that Web site. If you submit your comments by mail or hand delivery, submit them in an unbound format, no larger than 8½ by 11 inches, suitable for copying and electronic filing. If you submit comments by mail and would like to know that they reached the Facility, please enclose a stamped, self-addressed postcard or envelope. We will consider all comments and material received during the comment period and may change this document based on your comments.

Viewing the comments and the DEIS: To view the comments and DEIS go to http://www.regulations.gov, insert (USCG-2010-0455) in the SEARCH box and follow the instructions on that Web site. If you do not have access to the internet, you may view the docket by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility. The DEIS is also available online at http://www.uscg.mil/hq/cg5/cg551/CGLeadProjects.asp and is available for inspection at the Seventh Coast Guard District address given under ADDRESSES.

Copies of all written communications from the public meeting will be available for review by interested persons after the meeting on the online docket, USCG-2010-0455 via http://www.regulations.gov.

A transcript of the meeting will be available for public review approximately 30 days after the meeting. All comments will be made part of the official case record.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Correction to Federal Register Notice

In the July 5, 2013, edition of the Federal Register, the Coast Guard published a notice titled, “Availability of Draft Environmental Impact Statement for the Proposed Construction of a Highway Bridge Across the Manatee River at Parrish, Manatee County, FL” (78 FR 40488). The Coast Guard is correcting the end date of the comment period to align with the Environmental Protection Agency's notice announcing the comment period for the availability of this draft environmental impact statement (78 FR 40474). Although documents located in the docket for this notice may list the closing date for this comment period as August 18, 2013, the Coast Guard is accepting comments until August 19, 2013.

This notice is issued under authority of the General Bridge Act of 1946 (33 U.S.C. 525-533), 6 U.S.C. 468, DHS Delegation No. 0170.1, the National Historic Preservation Act (NHPA), as amended (16 U.S.C. 470 et seq.) and the National Environmental Policy Act of 1969 (42 U.S.C. 4321 et seq.), as implemented by the Council on Environmental Quality regulations (40 CFR parts 1500-1508), Department of Homeland Security Directive 023-01, and Coast Guard Commandant Instruction M16475.1D.

Dated: July 17, 2013.
Brian L. Dunn,
Administrator, Office of Bridge Programs, U.S. Coast Guard.

[FR Doc. 2013-17603 Filed 7-22-13; 8:45 am]

BILLING CODE 9110-04-P